DEPARTMENT OF TRANSPORTATION

Coast Guard

33 CFR Part 165

[CGD05-01-046]

RIN 2115-AE84

Regulated Navigation Area; Chesapeake Bay Entrance and Hampton Roads, VA and Adjacent Waters

AGENCY: Coast Guard, DOT.

ACTION: Direct final rule.

SUMMARY: The Coast Guard is amending the regulations for the Chesapeake Bay entrance and Hampton Roads, VA and adjacent waters—regulated navigation area (Lower Chesapeake Bay RNA). This change to the Lower Chesapeake Bay RNA excludes public vessels, owned, leased, or operated by the U.S. Government, from its navigational charts and publications carriage requirements. This amendment brings carrying requirements for public vessels operating in the Lower Chesapeake Bay RNA in alignment with the requirements for all other U.S. waters.

DATES: This rule is effective April 29, 2002, unless an adverse comment, or notice of intent to submit an adverse comment reaches the Commander, Fifth Coast Guard District (Aow), on or before March 29, 2002. If an adverse comment, or notice of intent to submit an adverse comment is received, the Coast Guard will withdraw this direct final rule and publish a timely notice of withdrawal in the Federal Register.

ADDRESSES: Comments should be submitted to the address in this paragraph. Comments and material received from the public, as well as documents indicated in this preamble as being available in the docket, are part of docket CGD05-01-046 and are available for inspection or copying at Commander (Aoww), Fifth Coast Guard District, Federal Building, 431 Crawford Street, Portsmouth, VA, 23704-5004, between 8:30 a.m. and 3:30 p.m., Monday through Friday, except Federal holidays.

FOR FURTHER INFORMATION CONTACT: LTjg Anne Grabins, Fifth Coast Guard District Aids to Navigation Office, (757) 398-6559.

SUPPLEMENTARY INFORMATION:

Request for Comments

The Coast Guard encourages interested persons to participate in this rulemaking by submitting written data, views, or arguments. Persons submitting comments should include their names and addresses, identify this rulemaking [CGD05-01-046] and the specific section of this document to which each comment applies, and give the reason for each comment. Please submit all comments and attachments in an unbound format, no larger than 8½ by 11 inches, suitable for copying and electronic filing to the address under ADDRESSES. You may submit your comments and material by mail, hand delivery or fax to the address under ADDRESSES; but please submit your comments and material by only one means. If you submit them by mail and would like to know they were received, please enclose a stamped, self-addressed postcard or envelope.

Regulatory Information

The Coast Guard is publishing a direct final rule, the procedures for which appear in 33 CFR 1.05-55, because it anticipates no adverse comment. If no adverse comment or written notice of intent to submit an adverse comment is received within the specified comment period, this rule will become effective as stated in the DATES section. In that case, approximately 30 days before the effective date, the Coast Guard will publish a document in the Federal Register stating that no adverse comment was received and confirming that this rule will become effective as scheduled. However, if the Coast Guard receives a written adverse comment or written notice of intent to submit an adverse comment, it will publish a document in the Federal Register announcing withdrawal of all or part of this direct final rule.

If an adverse comment applies to only part of this rule and it is possible to remove that part without defeating the purpose of this rule, the Coast Guard may adopt as final those parts of this rule on which no adverse comment was received. The part of this rule that was the subject of an adverse comment will be withdrawn. If the Coast Guard decides to proceed with a rulemaking following receipt of an adverse comment, the Coast Guard will publish a separate Notice of Proposed Rulemaking (NPRM) and provide a new opportunity for comment.

A comment is considered “adverse” if the comment explains why this rule would be inappropriate, including a challenge to the rule's underlying premise or approach, or why it would be ineffective or unacceptable without a change.

Background and Purpose

On May 2, 2001, in Volume 66 of Federal Register Number 85, pages 21862-21865, the Coast Guard published a direct final rule that changed 33 CFR part 164, section 164.01 (a) and (c), a change that exempts public vessels equipped with electronic charting and navigation systems from paper chart carriage requirements. This geographically broad rule, which became effective July 31, 2001 (66 FR 42573, August 15, 2001), applies to public vessels operating in the navigable waters of the United States.

A separate part of the CFR, however, still requires public vessels operating in the Lower Chesapeake Bay RNA to carry paper charts, 33 CFR 165.501(d)(7). We are amending the Chesapeake Bay RNA regulation to bring its navigation requirements for public vessels operating in this area in alignment with the requirements for all other U.S. waters.

This rule excludes public vessels from the corrected paper chart requirements contained in 33 CFR 165.501(d)(7), when operating in the Chesapeake Bay entrance and Hampton Roads, VA, and adjacent waters—regulated navigation area. This exclusion only applies to public vessels equipped with an electronic charting and navigation systems that meet the standards approved by the Federal agency exercising operational control of the vessel.

Discussion of Rule

The intent of the rule is to enable Federal agencies to utilize electronic charting and navigation systems as an alternative to requiring corrected paper charts, when the public vessel is equipped with an electronic system and backup. In addition, this rule is congruent with the direct final rule published May 2, 2001, and makes the requirements for public vessels in the Lower Chesapeake Bay RNA consistent in U.S. waters.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT)(44 FR 11040, February 26, l979). The Coast Guard expects the economic impact of this rule to be so minimal that a full Regulatory Evaluation under paragraph 10(e) of the regulatory policies and procedures of DOT is not necessary.

This direct final rule excludes public vessels from certain requirements that are found in the Regulated Navigation Area regulations in 33 CFR 165.501. Agencies will be allowed the flexibility of using either electronic charts or the currently required corrected paper charts. Consequently, this rule does not impose mandatory costs on the agencies involved.

This direct final rule would apply only to public vessels owned, operated, or leased by the United States Government that are equipped with an approved electronic system.

The Coast Guard does not expect that using electronic charts and navigation systems in place of corrected paper charts will adversely impact maritime safety.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

Therefore, the Coast Guard certifies under 5 U.S.C. 605(b) that this rule will not have a significant economic impact on a substantial number of small entities. Comments submitted in response to this finding will be evaluated under the criteria in the “Regulatory Information” section of this preamble.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

To help the Coast Guard establish regular and meaningful consultation and collaboration with Indian and Alaskan Native tribes, we published a notice in the Federal Register (66 FR 36361, July 11, 2001) requesting comments on how to best carry out the Order. We invite your comments on how this rule might impact tribal governments, even if that impact may not constitute a “tribal implication” under the Order.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraph (34)(g) of Commandant Instruction M16475.lD, this rule is categorically excluded from further environmental documentation. The Coast Guard believes this rule will not have any significant effect on the environment. This rule is a change to an established Regulated Navigation Area, meeting the categorical exclusion requirements outlined in paragraph (34)(g) of the above instruction. A “Categorical Exclusion Determination” is available in the docket for inspection or copying where indicated under ADDRESSES.

List of Subjects in 33 CFR Part 165

Harbors, Marine safety, Navigation (water), Reporting and recordkeeping requirements, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. In § 165.501, revise paragraph (d)(7)(i) to read as follows:

§ 165.501. Chesapeake Bay entrance and Hampton Roads, Va. and adjacent waters-regulated navigation area.

* * * * *

(d) * * *

(7) * * *

(i) Corrected charts of the Regulated Navigation Area. Instead of corrected paper charts, warships or other vessels owned, leased, or operated by the United States Government and used only in government noncommercial service may carry electronic charting and navigation systems that have met the applicable agency regulations regarding navigation safety.

* * * * *

Dated: January 15, 2002.
T.W Allen,
Commander, Fifth Coast Guard District.

[FR Doc. 02-1871 Filed 1-25-02; 8:45 am]

BILLING CODE 4910-15-U